DEPARTMENT OF DEFENSE

Department of the Army; Corps of Engineers

Estuary Habitat Restoration Council; Open Meeting

AGENCY: Department of the Army, U.S. Army Corps of Engineers, DoD.

ACTION: Notice of open meeting.

SUMMARY: In accordance with Section 105(h) of the Estuary Restoration Act of 2000, (Title I, Pub. L. 106-457), announcement is made of the forthcoming meeting of the Estuary Habitat Restoration Council. The meeting is open to the public.

DATES: The meeting will be held February 13, 2007, from 9:30 a.m. to 11:30 a.m.

ADDRESSES: The meeting will be in room 3M60/70 in the GAO building located at 441 G Street, NW., Washington, DC.

FOR FURTHER INFORMATION CONTACT: Ms. Ellen Cummings, Headquarters, U.S. Army Corps of Engineers, Washington, DC 20314-1000, (202) 761-4750.

SUPPLEMENTARY INFORMATION: The Estuary Habitat Restoration Council consists of representatives of five agencies. These agencies are the National Oceanic and Atmospheric Administration, Environmental Protection Agency, U.S. Fish and Wildlife Service, Department of Agriculture, and Army. The duties of the Council include, among others, soliciting, reviewing, and evaluating estuarine habitat restoration project proposals, and submitting to the Secretary of the Army a prioritized list of projects recommended for construction.

Agenda topics will include decisions on recommending additional proposals to the Secretary of the Army for funding and a brief update on projects previously recommended and funded.

Current security measures require that persons interested in attending the meeting must pre-register with us before 2 p.m. February 9, 2007. We cannot guarantee access for requests received after that time. Please contact Ellen Cummings to pre-register. When leaving a voice mail message please provide the name of the individual attending, the company or agency represented, and a telephone number, in case there are any questions. The public should enter on the “G” Street side of the GAO building. All attendees are required to show photo identification and must be escorted to the meeting room by Corps personnel. Attendee's bags and other possessions are subject to being searched. All attendees arriving between one-half hour before and one-half hour after 9:30 a.m. will be escorted to the meeting. Those who are not pre-registered and/or arriving later than the allotted time will be unable to attend the public meeting.

Brenda S. Bowen,
Army Federal Register Liaison Officer.

[FR Doc. 07-349 Filed 1-26-07; 8:45 am]

BILLING CODE 3710-92-M